FEDERAL MARITIME COMMISSION

Notice of Agreement Filed

The Commission hereby gives notice of the filing of the following agreement under the Shipping Act of 1984. Interested parties may submit comments on the agreement to the Secretary, Federal Maritime Commission, Washington, DC 20573, within twelve days of the date this notice appears in the Federal Register. A copy of the agreement is available through the Commission's Web site (www.fmc.gov) or by contacting the Office of Agreements at (202) 523-5793 or tradeanalysis@fmc.gov.

Agreement No.: 012301-004.

Title: Siem Car Carrier AS/Volkswagen Konzernlogistik GmBH & Co. OHG Space Charter Agreement.

Parties: Siem Car Carrier AS and Volkswagen Konzernlogistik GmBH & Co. OHG.

Filing Party: Ashley W. Craig, Esq.; Venable LLP; 600 Massachusetts Ave. NW.; Washington, DC 20001.

Synopsis: The amendment removes limits on the quantity of charter space that may be used by either Party on an ad-hoc basis on vessels owned or chartered by the other Party.

Dated: November 22, 2017.
By Order of the Federal Maritime Commission.
Rachel E. Dickon,
Assistant Secretary.

[FR Doc. 2017-25699 Filed 11-27-17; 8:45 am]

BILLING CODE 6731-AA-P